JUDICIAL CONFERENCE OF THE UNITED STATES

Hearings of the Judicial Conference Committees on Bankruptcy, Criminal Rules

AGENCY: Advisory Committee on Bankruptcy Rules and Advisory Committee on Criminal Rules, Judicial Conference of the United States.

ACTION: Notice of proposed amendments and open hearings.

SUMMARY: The Advisory Committee on Bankruptcy Rules and the Advisory Committee on Criminal Rules have proposed amendments to the following rules and forms:

Bankruptcy Rules: 3001, 7054, and 7056, and Official Forms 10, 25A, and new Forms 10 (Attachment A), 10 (Supplement 1), and 10 (Supplement 2).

Criminal Rules 5, 58, and new Rule 37.

The text of the proposed rules amendments and new rules and accompanying Committee Notes can be found at the United States Federal Courts' Home Page at http://www.uscourts.gov/rules.

Notice of Proposed Amendments and Open Hearings

The Judicial Conference Committee on Rules of Practice and Procedure submits these proposed rules amendments and new rules for public comment. All comments and suggestions with respect to them must be placed in the hands of the Secretary as soon as convenient and, in any event, not later than February 16, 2011. All written comments on the proposed rule amendments can be sent by one of the following three ways: by electronic mail at http://www.uscourts.gov/rules; by overnight mail to Peter G. McCabe, Secretary, Committee on Rules of Practice and Procedure of the Judicial Conference of the United States, Thurgood Marshall Federal Judiciary Building, Washington, DC 20544; or by facsimile to Peter G. McCabe at (202) 502-1766. In accordance with established procedures all comments submitted on the proposed amendments are available to public inspection.

Public hearings are scheduled to be held on the amendments to:

• Bankruptcy Rules in San Francisco, CA, on January 7, 2011, and in Washington, DC, on February 4, 2011;

• Criminal Rules in San Francisco, CA, on January 5, 2011, and in Atlanta, GA, on January 25, 2011.

Notice of Proposed Amendments and Open Hearings

Those wishing to testify should contact the Committee Secretary at the above address in writing at least 30 days before the hearing.

FOR FURTHER INFORMATION CONTACT: John K. Rabiej, Chief, Rules Committee Support Office, Administrative Office of the United State Courts, Washington, DC 20544, Telephone (202) 502-1820.

Dated: October 7, 2010.
John K. Rabiej,
Chief Rules Committee Support Office.

[FR Doc. 2010-26437 Filed 10-21-10; 8:45 am]

BILLING CODE 2210-55-M